NUCLEAR REGULATORY COMMISSION

[Docket Nos. 52-025-COL and 52-026-COL; ASLBP No.09-873-01-COL-BD01]

Southern Nuclear Operating Company; Establishment of Atomic Safety and Licensing Board

Pursuant to delegation by the Commission dated December 29, 1972, published in the Federal Register, 37 FR 28,710 (1972), and the Commission's regulations, see 10 CFR 2.104, 2.300, 2.303, 2.309, 2.311, 2.318, and 2.321, notice is hereby given that an Atomic Safety and Licensing Board (Board) is being established to preside over the following proceeding:

Southern Nuclear Operating Company

(Vogtle Electric Generating Plant, Units 3 and 4)

This proceeding concerns a Petition to Intervene from the Atlanta Women's Action for New Directions (Atlanta, WAND), Blue Ridge Environmental Defense League (BREDL), Center for a Sustainable Coast (CSC), Savannah Riverkeeper, and Southern Alliance for Clean Energy (SACE), which was submitted in response to a September 16, 2008, Notice of Hearing and Opportunity to Petition for Leave to Intervene on a Combined License for the Vogtle Electric Generating Plant Units 3 and 4 (73 FR 53,446). The Petition to Intervene challenges the application filed by Southern Nuclear Operating Company pursuant to Subpart C of 10 CFR Part 52 for a combined license for Vogtle Electric Generating Plant, Units 3 and 4, which would be located in Burke County, Georgia.

The Board is comprised of the following administrative judges:

G. Paul Bollwerk, III, Chairman, Atomic Safety and Licensing Board Panel, U.S. Nuclear Regulatory Commission, Washington, DC 20555-0001;

Nicholas G. Trikouros, Atomic Safety and Licensing Board Panel, U.S. Nuclear Regulatory Commission, Washington, DC 20555-0001;

James F. Jackson, Atomic Safety and Licensing Board Panel, U.S. Nuclear Regulatory Commission, Washington, DC 20555-0001.

All correspondence, documents, and other materials shall be filed in accordance with the NRC E-Filing rule, which the NRC promulgated in August 2007 (72 FR 49,139).

Issued at Rockville, Maryland, this 2nd day of December 2008.
E. Roy Hawkens,
Chief Administrative Judge, Atomic Safety and Licensing Board Panel.

[FR Doc. E8-28951 Filed 12-5-08; 8:45 am]

BILLING CODE 7590-01-P